ENVIRONMENTAL PROTECTION AGENCY

40 CFR Parts 49 and 51

[EPA-HQ-OAR-2003-0076; FRL-9767-8]

RIN 2060-AH37

Review of New Sources and Modifications in Indian Country: Notice of Action Partially Granting Petition for Reconsideration and Denying Request for Administrative Stay

AGENCY: Environmental Protection Agency (EPA).

ACTION: Notice of action partially granting petition for reconsideration and denying request for administrative stay.

SUMMARY: The EPA is providing notice that it has responded to a petition for reconsideration and a request for an administrative stay of certain provisions of the rule titled, “Review of New Sources and Modifications in Indian Country” published on July 1, 2011. The EPA received letters dated August 30, 2011, and November 4, 2011, petitioning for reconsideration of various aspects of the minor new source review (NSR) rule (the Petitions) and one provision of the nonattainment major NSR rule pursuant to the Clean Air Act (CAA) from the American Petroleum Institute (API), the Independent Petroleum Association of America (IPAA) and America's Natural Gas Alliance (ANGA) (collectively, the Petitioners). In the letter dated August 30, 2011, the Petitioners asked, among other things, that the EPA reconsider the synthetic minor source provisions of the minor NSR rule and requested that the EPA stay the effective date of the minor NSR rule as it relates to synthetic minor sources pending its reconsideration. In the letter dated November 4, 2011, the Petitioners asked for reconsideration of several aspects of the minor NSR rule and one aspect of the nonattainment major NSR rule. The EPA considered the Petitions, including the request for an administrative stay, along with information contained in the rulemaking docket, in reaching a decision on the Petitions generally and the request for an administrative stay specifically. In letters to the Petitioners dated December 19, 2012, the EPA Administrator, Lisa P. Jackson, expressed her intent to grant reconsideration of several aspects of the Petitions and denied reconsideration of several other aspects raised in the Petitions, including the request for administrative stay. She took no action at this time with respect to several other issues raised in the Petitions. The denials of reconsideration and of the request for an administrative stay constitute final agency action.

DATES: January 10, 2013.

FOR FURTHER INFORMATION CONTACT: Ms. Jessica Montañez, Air Quality Policy Division, Office of Air Quality Planning and Standards (C504-03), U.S. Environmental Protection Agency, Research Triangle Park, NC 27711, telephone number: (919) 541-3407; email address: montanez.jessica@epa.gov.

SUPPLEMENTARY INFORMATION:

I. Where can I get copies of this document and other related information?

This Federal Register notice, the petitions for reconsideration and the letter granting certain aspects of the petitions for reconsideration and denying the request for an administrative stay are available in the docket that the EPA established for the final rule titled, “Review of New Sources and Modifications in Indian Country,” published on July 1, 2011, 76 FR 38748, under Docket ID No. EPA-HQ-OAR-2003-0076. The table below identifies the Petitioners, the dates the EPA received the Petitions, the document identification number of the Petitions, the date of the EPA's response, and the document identification number for the EPA's response.

Petitioners | Dates of petitions to the EPA | Petition: document No. in docket | Date of the EPA response | The EPA response: document No. in docket
American Petroleum Institute (API)/Independent Petroleum Association of America (IPAA)/America's Natural Gas Alliance (ANGA) | 08/30/2011 and 11/04/2011 | 0172 | December 19, 2012 | 0173
Note: All document numbers listed in the table are in the form of “EPA-HQ-OAR-2003-0076-xxxx.”

All documents in the docket are listed on the http://www.regulations.gov Web site. Although listed in the index, some information may not be publicly available, i.e., confidential business information or other information whose disclosure is restricted by statute. Certain other material, such as copyrighted material, is not placed on the Internet and will be publicly available only in hard copy form. Publicly available docket materials are available electronically through http://www.regulations.gov or in hard copy at the EPA Docket Center, Docket ID. No. EPA-HQ-OAR-2003-0076, EPA West, Room 3334, 1301 Constitution Avenue, North West, Washington, DC. The Public Reading Room is open from 8:30 a.m. to 4:30 p.m., Monday through Friday, excluding legal holidays. The telephone number for the Public Reading Room is (202) 566-1744, and the telephone number for the EPA Docket Center is (202) 566-1742.

In addition to being available in the docket, an electronic copy of this Federal Register notice and the EPA's response letter to the petitioners are also available on the World Wide Web at http://www.epa.gov/nsr and on the Tribal Air home page at http://www.epa.gov/oar/tribal.

II. Judicial Review

Under CAA section 307(b), judicial review of this final action is available only by filing a petition for review in the U.S. Court of Appeals for the District of Columbia Circuit on or before March 11, 2013.

Dated: December 27, 2012.
Gina McCarthy,
Assistant Administrator, Office of Air and Radiation.

[FR Doc. 2012-31742 Filed 1-9-13; 8:45 am]

BILLING CODE 6560-50-P